DEPARTMENT OF COMMERCE

International Trade Administration

[A-201-830]

Carbon and Certain Alloy Steel Wire Rod From Mexico: Notice of Partial Rescission of the Antidumping Duty Administrative Review; 2015-2016

AGENCY: Enforcement and Compliance, International Trade Administration, Department of Commerce.

SUMMARY: On December 16, 2016, the Department of Commerce (“Department”) published a notice of initiation of an administrative review of the antidumping duty order on carbon and certain alloy steel wire rod (“wire rod”) from Mexico. Based on Nucor Corporation's (“Nucor”) timely withdrawal of the request for review of Ternium Mexico S.A. de C.V. (“Ternium”), we are rescinding this administrative review with respect to Ternium. The instant review will continue with respect to ArcelorMittal Las Truchas S.A. de C.V. (“AMLT”) and Deacero S.A.P.I. de C.V. (“Deacero”).

DATES: Effective February 27, 2017

FOR FURTHER INFORMATION CONTACT: Keith Haynes, AD/CVD Operations, Office III, Enforcement and Compliance, International Trade Administration, U.S. Department of Commerce, 1401 Constitution Avenue NW., Washington, DC 20230; telephone: (202) 482-5139.

SUPPLEMENTARY INFORMATION:

Background

On October 3, 2016, the Department published a notice of opportunity to request an administrative review of the antidumping duty order on wire rod from Mexico.¹ Pursuant to requests from interested parties, on December 16, 2016, the Department published in the Federal Register the notice of initiation of an administrative review of the antidumping duty order ² on wire rod from Mexico with respect to the following companies for the period October 1, 2015, through September 30, 2016: AMLT, Deacero, and Ternium. On February 3, 2017, Nucor timely withdrew its request for an antidumping duty administrative review of Ternium.³

¹ See Antidumping or Countervailing Duty Order, Finding, or Suspended Investigation; Opportunity to Request Administrative Review, 81 FR 67968 (October 3, 2016).

² See Initiation of Antidumping and Countervailing Duty Administrative Reviews, 81 FR 91122 (December 16, 2016).

³ See Letter from Nucor to the Department titled, Carbon and Certain Alloy Steel Wire Rod from Mexico: Withdrawal of Request for Administrative Review, dated February 3, 2017.

Partial Rescission

Pursuant to 19 CFR 351.213(d)(1), the Secretary will rescind an administrative review, in whole or in part, if the parties that requested a review withdraw the request within 90 days of the date of publication of the notice of initiation of the requested review. Given that the withdrawal request cited above was timely, in accordance with 19 CFR 351.213(d)(1), we are rescinding this review of the antidumping duty order on wire rod from Mexico, in part, with respect to Ternium. Accordingly, the companies subject to the instant review are: Deacero and AMLT.

Assessment

The Department will instruct U.S. Customs and Border Protection (“CBP”) to assess antidumping duties on all appropriate entries. For the company for which this review is rescinded, Ternium, antidumping duties shall be assessed at rates equal to the cash deposit of estimated antidumping duties required at the time of entry, or withdrawal from warehouse, for consumption, during the period October 1, 2015, through September 30, 2016, in accordance with 19 CFR 351.212(c)(1)(i). The Department intends to issue appropriate assessment instructions directly to CBP 41 days after publication of this notice.

Notification to Importers

This notice serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Order

This notice serves as a final reminder to parties subject to an administrative protective order (“APO”) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: February 22, 2017.
Associate Deputy Assistant Secretary for Antidumping and Countervailing Duty Operations.

[FR Doc. 2017-03779 Filed 2-24-17; 8:45 am]

BILLING CODE 3510-DS-P